DEPARTMENT OF ENERGY

Federal Energy Regulatory Commission

Combined Notice of Filings #1

Take notice that the Commission received the following Complaints and Compliance filings in EL Dockets:

Docket Numbers: EL23-20-000.

Applicants: Leeward Renewable Energy Development, LLC v. PJM Interconnection, LLC.

Description: Complaint of Leeward Renewable Energy Development, LLC v. PJM Interconnection, LLC.

Filed Date: 12/30/22.

Accession Number: 20221230-5382.

Comment Date: 5 p.m. ET 1/30/23.

Take notice that the Commission received the following electric rate filings:

Docket Numbers: ER10-1410-007; ER13-412-005; ER16-1750-010; ER16-2601-008; ER17-2292-008; ER17-2381-007; ER19-926-001; ER19-1656-007; ER20-2123-005; ER20-2768-005.

Applicants: Greensville County Solar Project, LLC, Hardin Solar Energy LLC, Wilkinson Solar LLC, Dominion Energy Generation Marketing, Inc., Scott-II Solar LLC, Southampton Solar, LLC, Summit Farms Solar, LLC, Eastern Shore Solar LLC, Dominion Nuclear Connecticut, Inc., Virginia Electric and Power Company.

Description: Triennial Market Power Analysis for Northeast Region of Virginia Electric and Power Company, et al.

Filed Date: 12/30/22.

Accession Number: 20221230-5398.

Comment Date: 5 p.m. ET 2/28/23.

Docket Numbers: ER10-1427-004; ER11-3376-009; ER11-3377-010; ER11-3378-010; ER19-529-010; ER19-1074-010; ER19-1075-010; ER22-192-004; ER22-1019-002.

Applicants: Powell River Energy Inc., Evolugen Trading and Marketing LP, Brookfield Renewable Energy Marketing US LLC, Brookfield Energy Marketing Inc., Brookfield Renewable Trading and Marketing LP, South Hurlburt Wind, LLC, Horseshoe Bend Wind, LLC, North Hurlburt Wind, LLC, Brookfield Energy Marketing LP.

Description: Updated Market Power Analysis for Northwest Region of Brookfield Energy Marketing LP, et al.

Filed Date: 12/30/22.

Accession Number: 20221230-5410.

Comment Date: 5 p.m. ET 2/28/23.

Docket Numbers: ER10-1801-008; ER10-1805-009; ER10-2370-007; ER23-101-001; ER23-102-001; ER23-103-001; ER23-104-001.

Applicants: Sunrise Wind LLC, South Fork Wind, LLC, Revolution Wind, LLC, North East Offshore, LLC, NSTAR Electric Company, Public Service Company of New Hampshire, The Connecticut Light and Power Company.

Description: Triennial Market Power Analysis for Northeast Region of The Connecticut Light and Power Company, et al.

Filed Date: 12/29/22.

Accession Number: 20221229-5348.

Comment Date: 5 p.m. ET 2/27/23.

Docket Numbers: ER10-2196-008; ER10-2740-016; ER13-1141-006; ER13-1142-006; ER13-1143-009; ER13-1144-009; ER14-152-012; ER15-1657-013; ER16-918-005; ER17-1849-007; ER19-1009-002; ER19-1633-003; ER19-1634-003; ER19-1638-003; ER20-528-003; ER20-844-003; ER20-2452-004; ER20-2453-005.

Applicants: Hamilton Patriot LLC, Hamilton Liberty LLC, Hamilton Projects Acquiror, LLC, Lincoln Power, L.L.C., Tiverton Power LLC, Bridgeport Energy LLC, Rumford Power LLC, Revere Power, LLC, Nautilus Power, LLC, Rhode Island State Energy Center, LP, SEPG Energy Marketing Services, LLC, Elgin Energy Center, LLC, Essential Power Rock Springs, LLC, Essential Power OPP, LLC, Essential Power Newington, LLC, Essential Power Massachusetts, LLC, Rocky Road Power, LLC, Lakewood Cogeneration Limited Partnership.

Description: Triennial Market Power Analysis for Northeast Region of Lakewood Cogeneration Limited Partnership, et al.

Filed Date: 12/30/22.

Accession Number: 20221230-5405.

Comment Date: 5 p.m. ET 2/28/23.

Docket Numbers: ER10-2294-007; ER11-3808-006; ER11-3980-006; ER13-413-007; ER13-534-006; ER13-2103-004; ER13-2414-003; ER15-2330-003; ER16-131-003; ER16-2675-001; ER17-2471-004; ER17-2472-004; ER18-301-003; ER18-664-004; ER18-2013-006; ER18-2435-003.

Applicants: ORNI 41 LLC, Terra-Gen Dixie Valley, LLC, Steamboat Hills LLC, Ormesa LLC, ONGP LLC, ORNI 43 LLC, AltaGas Pomona Energy Storage Inc., Heber Geothermal Company LLC, ORNI 37 LLC, Mammoth Three LLC, ORNI 47 LLC, Mammoth One, LLC, USG Oregon LLC, ORNI 14 LLC, ORNI 39, LLC, ORNI 18, LLC.

Description: Triennial Market Power Analysis for Northwest Region of ORNI 14 LLC, et al.

Filed Date: 12/29/22.

Accession Number: 20221229-5352.

Comment Date: 5 p.m. ET 2/27/23.

Docket Numbers: ER10-2806-007; ER10-2818-007; ER18-1984-003; ER19-1889-003.

Applicants: Antrim Wind Energy LLC, Big Level Wind LLC, TransAlta Energy Marketing Corporation, TransAlta Energy Marketing (U.S.) Inc.

Description: Triennial Market Power Analysis for Northeast Region of TransAlta Energy Marketing (U.S.) Inc., et al.

Filed Date: 12/30/22.

Accession Number: 20221230-5404.

Comment Date: 5 p.m. ET 2/28/23.

Docket Numbers: ER10-2847-006; ER10-2806-006; ER10-2818-006; ER14-963-006.

Applicants: TransAlta Wyoming Wind LLC, TransAlta Energy Marketing Corporation, TransAlta Energy Marketing (U.S.) Inc., TransAlta Centralia Generation LLC.

Description: Triennial Market Power Analysis for Northwest Region of TransAlta Centralia Generation LLC, et al.

Filed Date: 12/30/22.

Accession Number: 20221230-5390.

Comment Date: 5 p.m. ET 2/28/23.

Docket Numbers: ER10-2895-024; ER10-1427-003; ER10-2460-022; ER10-2461-023; ER10-2463-021; ER10-2466-022; ER10-2917-024; ER10-2918-025; ER10-2920-025; ER10-2921-024; ER10-2922-024; ER10-2966-024; ER10-3167-017; ER11-2201-027; ER11-2383-020; ER11-4029-021; ER12-161-026; ER12-682-023; ER12-1311-021; ER12-2068-021; ER13-17-021; ER13-203-016; ER13-1613-017; ER13-2143-017; ER14-1964-015; ER16-287-010; ER17-482-009; ER19-529-009; ER19-1074-009; ER19-1075-009; ER20-1447-005; ER20-2028-001; ER22-192-003; ER22-1010-002.

Applicants: TerraForm IWG Acquisition Holdings II, LLC, Evolugen Trading and Marketing LP, Bitter Ridge Wind Farm, LLC, Brookfield Energy Marketing US LLC, Brookfield Renewable Energy Marketing US LLC, Brookfield Energy Marketing Inc., Brookfield Renewable Trading and Marketing LP, BREG Aggregator LLC, BIF III Holtwood LLC, LSP Safe Harbor Holdings, LLC, Black Bear Development Holdings, LLC, Brookfield White Pine Hydro LLC, Black Bear SO, LLC, Niagara Wind Power, LLC, Blue Sky East, LLC, Stetson Holdings, LLC, Erie Wind, LLC, Bishop Hill Energy LLC, Vermont Wind, LLC, Safe Harbor Water Power Corporation, Evergreen Wind Power III, LLC, Black Bear Hydro Partners, LLC, Rumford Falls Hydro LLC, Hawks Nest Hydro LLC, Great Lakes Hydro America, LLC, Erie Boulevard Hydropower, L.P., Carr Street Generating Station, L.P., Brookfield Power Piney & Deep Creek LLC, Stetson Wind II, LLC, Evergreen Wind Power, LLC, Canandaigua Power Partners II, LLC, Canandaigua Power Partners, LLC, Brookfield Energy Marketing LP, Bear Swamp Power Company LLC.

Description: Updated Market Power Analysis for Northeast Region and Notice of Change in Status of Bear Swamp Power Company LLC, et al.

Filed Date: 12/30/22.

Accession Number: 20221230-5399.

Comment Date: 5 p.m. ET 2/28/23.

Docket Numbers: ER10-2906-019; ER10-2908-019; ER19-1716-007.

Applicants: Morgan Stanley Energy Structuring, L.L.C., MS Solar Solutions Corp., Morgan Stanley Capital Group Inc.

Description: Triennial Market Power Analysis for Northwest Region of Morgan Stanley Capital Group Inc., et al.

Filed Date: 12/30/22.

Accession Number: 20221230-5392.

Comment Date: 5 p.m. ET 2/28/23.

Docket Numbers: ER10-2997-007; ER10-2172-030; ER10-1048-027; ER10-3018-007; ER10-1143-026; ER10-3030-007.

Applicants: Potomac Electric Power Company, PECO Energy Company, Delmarva Power & Light Company, Commonwealth Edison Company, Baltimore Gas and Electric Company, Atlantic City Electric Company.

Description: Triennial Market Power Analysis for Northeast Region of Atlantic City Electric Company, et al.

Filed Date: 12/30/22.

Accession Number: 20221230-5386.

Comment Date: 5 p.m. ET 2/28/23.

Docket Numbers: ER10-3297-019.

Applicants: Powerex Corporation.

Description: Triennial Market Power Analysis for Northwest Region of Powerex Corporation.

Filed Date: 12/30/22.

Accession Number: 20221230-5402.

Comment Date: 5 p.m. ET 2/28/23.

Docket Numbers: ER11-47-016; ER12-1540-014; ER12-1541-014; ER12-1542-014; ER12-1544-014; ER14-594-018; ER14-867-004; ER14-868-005; ER16-323-013; ER17-1930-008; ER17-1931-008; ER17-1932-008; ER19-606-006; ER20-649-004; ER20-2000-003; ER21-2555-001; ER21-2556-001.

Applicants: South River OnSite Generation, LLC, Martinsville OnSite Generation, LLC, Clyde Onsite Generation, LLC, AEP Energy Partners, Inc., AEP Generation Resources Inc., Southwestern Electric Power Company, AEP Texas Inc., Public Service Company of Oklahoma, Ohio Valley Electric Corporation, AEP Retail Energy Partners, AEP Energy, Inc., Ohio Power Company, Wheeling Power Company, Kingsport Power Company, Kentucky Power Company, Indiana Michigan Power Company, Indiana Michigan Power Company, Appalachian Power Company, Ohio Power Company, Kingsport Power Company, Columbus Southern Power Company, Kentucky Power Company, Wheeling Power Company.

Description: Triennial Market Power Analysis for Northeast Region of Appalachian Power Company, et al.

Filed Date: 12/29/22.

Accession Number: 20221229-5351.

Comment Date: 5 p.m. ET 2/27/23.

Docket Numbers: ER13-1816-018; ER20-2717-003; ER22-941-001; ER22-942-001; ER22-943-001.

Applicants: Wheat Field Wind Power Project LLC, Sagebrush Power Partners, LLC, Arlington Wind Power Project LLC, Crossing Trails Wind Power Project LLC, Sustaining Power Solutions LLC.

Description: Triennial Market Power Analysis for [Central/Southwest Power Pool Inc./Northeast/Northwest/Southeast/Southwest] Region of [Company Name], et al.

Filed Date: 12/30/22.

Accession Number: 20221230-5406.

Comment Date: 5 p.m. ET 2/28/23.

Docket Numbers: ER14-225-009.

Applicants: New Brunswick Energy Marketing Corporation.

Description: Triennial Market Power Analysis for Northeast Region of New Brunswick Energy Marketing Corporation.

Filed Date: 12/30/22.

Accession Number: 20221230-5393.

Comment Date: 5 p.m. ET 2/28/23.

Docket Numbers: ER21-2712-001.

Applicants: Heartland Generation Ltd.

Description: Updated Market Power Analysis for Northwest Region of Heartland Generation Ltd.

Filed Date: 12/30/22.

Accession Number: 20221230-5409.

Comment Date: 5 p.m. ET 2/28/23.

Docket Numbers: ER23-429-000.

Applicants: Southern California Edison Company.

Description: Supplement to November 15, 2022 tariff filing per 35.13(a)(2)(iii: LA, Pier S. Energy Storage Project (WDT1683-SA1205) of Southern California Edison Company.

Filed Date: 12/21/22.

Accession Number: 20221221-5327.

Comment Date: 5 p.m. ET 1/11/23.

Docket Numbers: ER23-765-000.

Applicants: PJM Interconnection, L.L.C.

Description: § 205(d) Rate Filing: Original WMPA, SA No. 6733; Queue No. AF1-286 to be effective 12/7/2022.

Filed Date: 1/4/23.

Accession Number: 20230104-5025.

Comment Date: 5 p.m. ET 1/25/23.

Docket Numbers: ER23-766-000.

Applicants: PJM Interconnection, L.L.C.

Description: § 205(d) Rate Filing: Original ISA, SA No. 6738 and CSA, SA No. 6739; Queue No. AC2-090 to be effective 12/5/2022.

Filed Date: 1/4/23.

Accession Number: 20230104-5052.

Comment Date: 5 p.m. ET 1/25/23.

Docket Numbers: ER23-767-000.

Applicants: Marathon Power LLC.

Description: Compliance filing: Notice of Succession baseline refiling to be effective 1/5/2023.

Filed Date: 1/4/23.

Accession Number: 20230104-5053.

Comment Date: 5 p.m. ET 1/25/23.

Docket Numbers: ER23-768-000.

Applicants: PJM Interconnection, L.L.C.

Description: § 205(d) Rate Filing: Original ISA, Service Agreement No. 6743; Queue No. AC2-029 to be effective 12/5/2022.

Filed Date: 1/4/23.

Accession Number: 20230104-5076.

Comment Date: 5 p.m. ET 1/25/23.

Docket Numbers: ER23-769-000.

Applicants: Michigan Electric Transmission Company, LLC.

Description: § 205(d) Rate Filing: Filing of a Contribution in Aid of Construction Agreement to be effective 3/6/2023.

Filed Date: 1/4/23.

Accession Number: 20230104-5085.

Comment Date: 5 p.m. ET 1/25/23.

Docket Numbers: ER23-770-000.

Applicants: Arizona Public Service Company.

Description: § 205(d) Rate Filing: Rate Schedule No. 217, Exhibit B.GLA-SON to be effective 3/6/2023.

Filed Date: 1/4/23.

Accession Number: 20230104-5115.

Comment Date: 5 p.m. ET 1/25/23.

Take notice that the Commission received the following qualifying facility filings:

Docket Numbers: QF23-326-000.

Applicants: Campanelli Drive Solar 1, LLC.

Description: Refund Report of Campanelli Drive Solar 1 LLC.

Filed Date: 12/30/22.

Accession Number: 20221230-5400.

Comment Date: 5 p.m. ET 1/20/23.

Take notice that the Commission received the following PURPA 210(m)(3) filings:

Docket Numbers: QM23-2-000.

Applicants: City of Auburn, Indiana.

Description: Application of City of Auburn, Indiana to Terminate Its Mandatory Purchase Obligation under the Public Utility Regulatory Policies Act of 1978.

Filed Date: 1/3/23.

Accession Number: 20230103-5510.

Comment Date: 5 p.m. ET 1/24/23.

Take notice that the Commission received the following electric reliability filings:

Docket Numbers: RR22-4-002.

Applicants: North American Electric Reliability Corporation.

Description: Compliance Filing of North American Electric Reliability Corporation in Response to the November 2, 2022 Commission Order.

Filed Date: 1/3/23.

Accession Number: 20230103-5472.

Comment Date: 5 p.m. ET 1/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2023.
Debbie-Anne A. Reese,
Deputy Secretary.

[FR Doc. 2023-00257 Filed 1-9-23; 8:45 am]

BILLING CODE 6717-01-P